DEPARTMENT OF THE TREASURY

Publication of Fiscal Year 2012 Service Contract Inventory Analysis

AGENCY: Departmental Offices, Treasury.

ACTION: Notice of publication of Fiscal Year 2012 Service Contract Inventory: Analysis of the FY 2012 Inventory and Planned Analysis of 2013.

SUMMARY: The Department of the Treasury will make available to the public at http://www.treasury.gov/about/organizational-structure/offices/Pages/Office-of-the-Procurement-Executive.aspx (see Key Topics) the Department's Fiscal Year (FY) 2012 Service Contract Inventory analysis. The analysis discusses Treasury initiatives in court reporters and transcription services for 2012. In 2013, Treasury seeks to determine if its mix of Federal/contractor employees dedicated to Government Performance and Results Act goals is effective or if rebalancing is required.

FOR FURTHER INFORMATION CONTACT: Jim Sullivan Office of the Deputy Assistant Secretary for Human Resources and Chief Human Capital Officer Department of the Treasury, 1500 Pennsylvania Avenue NW, Washington, DC 20220, at (202) 622-9395 or james.sullivan@treasury.gov.

SUPPLEMENTARY INFORMATION: In accordance with Section 743 of Division C of the FY 2010 Consolidated Appropriations Act, Public Law (Pub. L.) 111-117, agencies required to submit an inventory in accordance with the Federal Activities Inventory Reform Act of 1998 (Pub. L. 105-270; 31 U.S.C. 501 note), other than the Department of the Defense, shall also prepare an annual service contract inventory. Treasury submitted its inventory for FY 2012 to the Office of Management and Budget (OMB) on December 18, 2012.

Dated: February 11, 2013.
Anita Blair,
Deputy Assistant Secretary for Human Resources and Chief Human Capital Officer.

[FR Doc. 2013-05065 Filed 3-4-13; 8:45 am]

BILLING CODE 4810-25-P